SMALL BUSINESS ADMINISTRATION

Small Business Size Standards: Waiver of the Nonmanufacturer Rule

AGENCY: U.S. Small Business Administration.

ACTION: Notice of intent to waive the Nonmanufacturer Rule for Product Service Code (PSC) 9130—Liquid Propellants—Petroleum Base.

SUMMARY: The U. S. Small Business Administration (SBA) is considering granting a waiver of the Nonmanufacturer Rule for PSC 9130—Liquid Propellants—Petroleum Base. According to a request, no small business manufacturers supply these classes of products to the Federal government. If granted, the waiver would allow otherwise qualified nonmanufacturer to supply the products of any manufacturer on a Federal contract set aside for small businesses, service-disabled veteran-owned small businesses, or participants in the SBA's 8(a) Business Development Program.

DATES: Comments and source information must be submitted May 26, 2009.

ADDRESSES: You may submit comments and source information to Pamela M. McClam, Program Analyst, Small Business Administration, Office of Government Contracting, 409 3rd Street, SW., Suite 8800, Washington, DC 20416.

FOR FURTHER INFORMATION CONTACT: Ms. Pamela M. McClam, by telephone at (202) 205-7408; by FAX at (202) 481-4783, or by e-mail at Pamela.mcclam@sba.gov.

SUPPLEMENTARY INFORMATION: Section 8(a)(17) of the Small Business Act (Act), 15 U.S.C. 637(a)(17), and SBA's implementing regulations provide that recipients of Federal contracts set aside for small businesses, service-disabled veteran-owned small businesses, or participants in the SBA's 8(a) Business Development Program must provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 121.1202(1). The SBA defines “class of products” based on a six digit coding system. The coding system is the Office of Management and Budget North American Industry Classification System (NAICS). In addition, SBA uses product service codes to identify particular products within the NAICS code to which a waiver would apply.

The SBA is currently processing a request to waive the Nonmanufacturer Rule under NAICS code 324110, for Petroleum Refineries, PSC 9130—Liquid Propellants—Petroleum Base.

The public is invited to comment or provide source information to SBA on the proposed waivers of the Nonmanufacturer Rule for this class of products within 15 days after date of publication in the Federal Register.

Karen C. Hontz,
Director for Government Contracting.

[FR Doc. E9-10926 Filed 5-8-09; 8:45 am]

BILLING CODE 8025-01-P